DEPARTMENT OF LABOR

Mine Safety and Health Administration

30 CFR Part 47

RIN 1219-AA47

Hazard Communication (HazCom)

AGENCY: Mine Safety and Health Administration (MSHA), Labor.

ACTION: Final rule; correction.

SUMMARY: This document corrects errors that appeared in MSHA's preamble and final rule for Hazard Communication.

EFFECTIVE DATE: October 11, 2002.

FOR FURTHER INFORMATION CONTACT: Marvin W. Nichols, Jr., Director, Office of Standards, Regulations, and Variances, MSHA, 202-693-9440.

SUPPLEMENTARY INFORMATION: On June 21, 2002, we (MSHA) published, in the Federal Register (67 FR 42314), our final rule on Hazard Communication for the mining industry. This document contained errors and omissions that must be corrected; therefore, the document is corrected as follows:

1. On page 42335, third column, second paragraph, ninth line, correct “provides valuable,” to read “provides valuable guidance,”.

2. On page 42343, first column, first paragraph after the heading 3. Section 47.2 Label Contents, tenth line, correct “The label must also contain” to read “For customers, the label must also contain”.

3. On page 42343, third column, first paragraph, seventeenth line, correct “the name, address, and telephone number of the operator or other responsible party be included in the contents of the label” to read “the name and address of the operator or another responsible party be included in the contents of the product's label for customers.”.

4. On page 42345, second column, sixth paragraph, eighth line, correct “Although you do not have to label it” to read “Although you do not have to label it while on mine property”.

5. On page 42365, first column, second paragraph, fifteenth line, correct “§ 47.32” to read “§ 47.42”.

6. On page 42373, second column, first paragraph, third line, correct “4015 Wilson Boulevard, Arlington, VA 22203” to read “1100 Wilson Boulevard, Arlington, VA 22209”.

7. On page 42375, first column, second paragraph, fourteenth line, correct “to about $370” to read “to about $390”.

8. On page 42379, third column, second paragraph, eighth line, correct “At concentrations between 2-10%,” to read “At concentrations between 2-10%,”.

§ 47.42 [Corrected]

9. On page 42385, second column, paragraph (d) of § 47.42, correct “(d) Include the name and address” to read “(d) Include on labels for customers, the name and address”.

§ 47.92 [Corrected]

10. On page 42388, Table 47.92—Hazardous Chemicals Exempt from Labeling, first column, first entry after the heading Exemption, second line, correct “presticide” to read “pesticide”.

Dated: October 4, 2002.
John R. Caylor,
Deputy Assistant Secretary for Mine Safety and Health.

[FR Doc. 02-25928 Filed 10-10-02; 8:45 am]

BILLING CODE 4510-43-P